ENVIRONMENTAL PROTECTION AGENCY

[EPA-HQ-OAR-2011-0199; FRL-9280-6]

Notice of Receipt of Petition From the Government of Canada for Application of the Renewable Fuel Standard Aggregate Compliance Approach

AGENCY: Environmental Protection Agency (EPA).

ACTION: Notice.

SUMMARY: EPA is issuing notice of receipt of a petition for EPA to authorize the use of an aggregate approach for compliance with the Renewable Fuel Standard renewable biomass provisions. This petition was submitted by the Government of Canada. The petition requests that EPA determine that an aggregate compliance approach will provide reasonable assurance that planted crops and crop residue from Canada meet the definition of renewable biomass. EPA has previously determined that the aggregate compliance approach is applicable in the United States. If the petition is approved, crops and crop residue from Canada would not be subject to individual recordkeeping and reporting requirements. This determination could change if EPA later determined, through its annual evaluation of the aggregate compliance approach, that the number of acres of agricultural land in Canada exceeded a baseline number of acres determined to be available under the Act for the production of crops and crop residue meeting the definition of renewable biomass. In this notice, EPA is soliciting comment on all aspects of the petition.

DATES: Comments must be received on or before May 16, 2011.

ADDRESSES: Submit your comments, identified by Docket ID No. EPA-HQ-OAR-2011-0199, by one of the following methods:

• http://www.regulations.gov: Follow the on-line instructions for submitting comments.

• E-mail: a-and-r-docket@epa.gov.

• Fax: (202)566-1741.

• Mail: Air and Radiation Docket, Environmental Protection Agency, Mailcode: 6102T, 1200 Pennsylvania Ave., NW., Washington, DC 20460. Please include a total of two copies.

• Hand Delivery: EPA Docket Center, Public Reading Room, EPA West Building, Room 3334, 1301 Constitution Avenue, NW., Washington, DC 20460. Such deliveries are only accepted during the Docket's normal hours of operation, and special arrangements should be made for deliveries of boxed information.

Instructions: Direct your comments to Docket ID No. EPA-HQ-OAR-2011-0199. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: The complete petition and all supporting materials are available for public review in the docket. All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Air and Radiation Docket, EPA/DC, EPA West, Room 3334, 1301 Constitution Ave., NW., Washington, DC. The Public Reading Room is open from 8:30 a.m. to 4:30 p.m., Monday through Friday, excluding legal holidays. The telephone number for the Public Reading Room is (202) 566-1744, and the telephone number for the Air and Radiation Docket is (202) 566-1741.

FOR FURTHER INFORMATION CONTACT: Meg McCarthy, Office of Transportation and Air Quality, Mailcode: 6406J, Environmental Protection Agency, 1200 Pennsylvania Ave., NW., Washington, DC 20460; telephone number: (202)343-9968; fax number: (202)343-2802; e-mail address: mccarthy.meg@epa.gov.

SUPPLEMENTARY INFORMATION:

(A) Request for Comments

On January 31, 2011, the Government of Canada submitted a petition to the Administrator pursuant to 40 CFR 80.1457 requesting approval of an aggregate approach for compliance with the Renewable Fuel Standard renewable biomass provisions for planted crops and crop residue from Canada. This petition has been placed in the public docket.

The petition requests that EPA determine that an aggregate compliance approach will provide reasonable assurance that planted crops and crop residue from Canada meet the definition of renewable biomass and will continue to meet the definition of renewable biomass, and thus will not be subject to individual recordkeeping and reporting requirements unless EPA determines through an annual evaluation that more acres are planted to crops and crop residue than are permissible consistent with the definition of renewable biomass. EPA solicits comments and information to assist the Administrator in making a determination concerning the petition.

(B) Background on the Petition Process

Pursuant to 40 CFR 80.1457, EPA may approve a petition for application of the aggregate compliance approach in a foreign country if it finds that such an approach will provide reasonable assurance that planted crops and crop residue from the petitioning country meet the definition of renewable biomass, and will continue to meet the definition of renewable biomass, as demonstrated through the submission of credible, reliable, and verifiable data. As part of its evaluation of the petition, EPA will consider several factors, including:

• Whether there has been a reasonable identification of the “2007 baseline area of land,” defined as the total amount of cropland, pastureland, and land that is equivalent to U.S. Conservation Reserve Program land in the country in question that was actively managed or fallow and nonforested on December 19, 2007, taking into account the definitions of terms such as “cropland,” “pastureland,” “planted crop,” and “crop residue” included in the final RFS2 regulations.

• Whether information on the total amount of cropland, pastureland, and land that is equivalent to U.S. Conservation Reserve Program land in the country in question for years preceding and following calendar year 2007 shows that the 2007 baseline area of land is not likely to be exceeded in the future.

• Whether economic considerations, legal constraints, historical land use and agricultural practices and other factors show that it is likely that producers of planted crops and crop residue will continue to use agricultural land within the 2007 baseline area of land identified into the future, as opposed to clearing and cultivating land not included in the 2007 baseline area of land.

• Whether there is a reliable method to evaluate, on an annual basis, if the 2007 baseline area of land is being or has been exceeded.

• Whether a credible and reliable entity has been identified to conduct data gathering and analysis, including annual identification of the aggregate amount of cropland, pastureland, and land that is equivalent to U.S. Conservation Reserve Program land, that is needed for an annual EPA evaluation of the aggregate compliance approach, and whether the data, analyses, and methodologies are publicly available.

• Whether the petition submission requirements specified in 40 CFR 80.1457(b) have been satisfied, including the submission of a letter signed by a national government representative at the ministerial level or equivalent confirming that the petition and all supporting data have been reviewed and verified by the ministry (or ministries) or department(s) of the national government with primary expertise in agricultural land use patterns, practices, data, and statistics of the country in question, that the data support a finding that planted crops and crop residue from the specified country meet the definition of renewable biomass and will continue to meet the definition of renewable biomass, and that the responsible national government ministry (or ministries) or department(s) will review and verify the data submitted on an annual basis to facilitate EPA's annual assessment of the 2007 baseline area of land.

The public is specifically invited to comment on these factors, whether Canada has met all submission requirements specified in the regulations, and on any other issue that could inform EPA's evaluation of the petition.

Dated: March 10, 2011.
Margo Tsirigotis Oge,
Director, Office of Transportation and Air Quality, Office of Air and Radiation.

[FR Doc. 2011-6033 Filed 3-14-11; 8:45 am]

BILLING CODE 6560-50-P